DEPARTMENT OF COMMERCE

International Trade Administration

[A-821-807]

Continuation of Antidumping Duty Order: Ferrovanadium and Nitrided Vanadium From Russia

AGENCY: Import Administration, International Trade Administration, Department of Commerce.

ACTION: Notice of continuation of antidumping duty order: ferrovanadium and nitrided vanadium from Russia.

SUMMARY: On October 10, 2000, the Department of Commerce (“the Department”), pursuant to sections 751(c) and 752 (c) of the Tariff Act of 1930, as amended (“the Act”), determined that revocation of the antidumping duty order on ferrovanadium and nitrided vanadium from Russia would be likely to lead to continuation or recurrence of dumping (65 FR 60168). On May 23, 2001, the International Trade Commission (“the Commission”), pursuant to section 751(c) of the Act, determined that revocation of the antidumping duty order on ferrovanadium and nitrided vanadium from Russia would be likely to lead to continuation or recurrence of material injury to an industry in the United States within a reasonably foreseeable time (66 FR 28540). Therefore, pursuant to 751(d)(2) of the Act and 19 CFR 351.218(e)(4), the Department is publishing this notice of the continuation of the antidumping duty order on ferrovanadium and nitrided vanadium from Russia.

EFFECTIVE DATE: June 7, 2001.

FOR FURTHER INFORMATION CONTACT: Martha V. Douthit or James P. Maeder, Office of Policy for Import Administration, International Trade Administration, U.S. Department of Commerce, 14th Street and Constitution Ave., NW., Washington, DC 20230; telephone: (202) 482-5050 or (202) 482-3330, respectively.

SUPPLEMENTARY INFORMATION:

Background

On June 5, 2000, the Department initiated (65 FR 35604), and the Commission instituted (65 FR 35668), a sunset review of the antidumping duty order on ferrovanadium and nitrided vanadium from Russia, pursuant to section 751(c) of the Act. As a result of its review, the Department found that revocation of the antidumping duty order would be likely to lead to continuation or recurrence of dumping and notified the Commission of the magnitude of the margin likely to prevail were the order revoked. See Final Results of Expedited Sunset Review of Antidumping Duty Order, Ferrovanadium and Nitrided Vanadium From Russia, 65 FR 60168 (October 10, 2000).

On May 23, 2001, the Commission determined, pursuant to section 751(c) of the Act, that revocation of the antidumping duty order on ferrovanadium and nitrided vanadium from Russia would be likely to lead to continuation or recurrence of material injury to an industry in the United States within a reasonably foreseeable time. See Ferrovanadium and Nitrided Vanadium From Russia, 66 FR 28540 (May 23, 2001) and USITC Publication 3420 (May 2001), Investigation No. 731-TA-702 (Review).

Scope of the Order

The merchandise subject to this order are ferrovanadium and nitrided vanadium, regardless of grade, chemistry, form or size, unless expressly excluded from the scope of this order. Ferrovanadium includes alloys containing ferrovanadium as the predominant element by weight (i.e., more weight than any other element, except iron in some instances) and at least 4 percent by weight of iron. Nitrided vanadium includes compounds containing vanadium as the predominant element, by weight, and at least 5 percent, by weight, of nitrogen. Excluded from the scope of the order are vanadium additives other than ferrovanadium and nitrided vanadium, such as vanadium-aluminum master alloys, vanadium chemicals, vanadium waste and scrap, vanadium-bearing raw materials, such as slag, boiler residues, fly ash, and vanadium oxides.

The products subject to this order are currently classifiable under subheadings 2850.00.20, 7202.92.00, 7202.99.50.40, 8112.40.30.00, and 8112.40.60.00 of the Harmonized Tariff Schedule of the United States (“HTSUS”). Although the HTSUS subheadings are provided for convenience and customs purposes, our written description of the scope is dispositive.

Determination

As a result of the determination by the Department, and the Commission, that revocation of the antidumping duty order would be likely to lead to continuation or recurrence of dumping and material injury to an industry in the United States, pursuant to section 751(d)(2) of the Act, the Department hereby orders the continuation of the antidumping duty order on ferrovanadium and nitrided vanadium from Russia. The effective date of continuation of this order will be the date of publication in the Federal Register of this Notice of Continuation. Pursuant to section 751(c)(2) of the Act, the Department intends to initiate the next five-year review of this order not later than May 2006.

Dated: May 31, 2001.
Faryar Shirzad,
Assistant Secretary for Import Administration.

[FR Doc. 01-14379 Filed 6-6-01; 8:45 am]

BILLING CODE 3510-DS-P